CONSUMER PRODUCT SAFETY COMMISSION

[Docket No. CPSC-2007-0035]

Privacy Act of 1974; System of Records

AGENCY: Consumer Product Safety Commission.

ACTION: Notice of new system of records.

SUMMARY: In accordance with the Privacy Act of 1974, the Consumer Product Safety Commission (CPSC) announces a new Privacy Act system of records. The purpose of the new system of records, relating to mailing, contact, and other lists, is to assist in the dissemination of CPSC information and documents, including dissemination to those who request such materials or information; and to maintain lists of business or other contacts for future reference.

DATES: Comments must be received no later than May 20, 2015. The new system of records will be effective June 1, 2015, unless comments are received that would result in a contrary determination.

ADDRESSES: You may submit comments, identified by Docket No. CPSC-2007-0035, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: mail/hand delivery/courier to: Office of the Secretariat, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to http://www.regulations.gov, and insert the docket number, CPSC-2007-0035, into the “Search” box, and follow the prompts.

FOR FURTHER INFORMATION CONTACT: Mary James, Office of Information Technology, Consumer Product Safety Commission, 4330 East West Highway, Bethesda, MD 20814, (301) 504-7213, or by email to: mjames@cpsc.gov.

SUPPLEMENTARY INFORMATION: The CPSC is establishing this new system of records under the Privacy Act, 5 U.S.C. 552a, for CPSC mailing, contact, and other lists of individuals, organizations, businesses, and other contacts. These lists are maintained to assist in the distribution of CPSC documents and information in furtherance of the CPSC's mission to protect the public against unreasonable risks of injury associated with the use of consumer products.

In accordance with 5 U.S.C. 552a(r), the CPSC has provided a report of this updated system of records to the Office of Management and Budget and to Congress.

Alberta Mills,
Acting Secretary, Consumer Product Safety Commission.

CPSC-34

SYSTEM NAME:

Mailing and Other Lists

SYSTEM LOCATION:

U.S. Consumer Product Safety Commission, 4330 East West Highway, Bethesda, MD 20814.

CATEGORIES OF INDIVIDUALS COVERED BY THE SYSTEM:

Individuals covered by the new system of records include individuals who have indicated an interest in receiving CPSC materials or who are participants or contacts in connection with matters under consideration at CPSC, and other individuals who may be contacts, resources, or leads for various CPSC subject matter areas or programs.

CATEGORIES OF RECORDS IN THE SYSTEM:

The records in the new system may include some or all of the following information: Name; title; company, organization or affiliation; address; telephone number; email or internet address. This system includes mailing lists, contact lists, address lists, and information developed from business cards, sign-in sheets or rosters compiled at meetings. This system excludes mailing or contact lists or similar records collected or maintained under other CPSC systems of records. For example, addresses or other contact information for individuals who import materials into the United States are covered by CPSC-33 (International Trade Data System Risk Assessment Methodology System (ITDS/RAM)).

AUTHORITY FOR MAINTENANCE OF THE SYSTEM:

44 U.S.C. 3101; CPSC Directives Order No. 0730.1 (Revised 2/06).

PURPOSE(S):

The system of records is used to assist in the dissemination of CPSC information and documents to individuals, organizations, businesses, and other contacts in accordance with applicable legal constraints, and to maintain lists of business or other contacts for future reference, in furtherance of the CPSC's mission to protect the public against unreasonable risks of injury associated with the use of consumer products.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside CPSC as a routine use pursuant to 5 U.S.C. 552a(b)(3), as follows:

1. To disclose information to the National Archives and Records Administration for use in records management inspections.

2. Contractors, agents, or other authorized individuals performing work on a contract, service, cooperative agreement, job, or other activity on behalf of CPSC or Federal Government and who have a need to access the information in the performance of their duties.

POLICIES AND PRACTICES FOR STORING, RETRIEIVING, ACCESSING, RETAINING, AND DISPOSING OF RECORDS IN THE SYSTEM:

STORAGE:

Records are maintained in electronic format and paper form. Electronic records are stored in computerized databases. Other records are maintained in locked file cabinets or in agency office space whose access is limited to those with authorization.

RETRIEVABILITY:

Information about individuals maintained in mailing lists and other information covered by this system of records may be retrieved by the individual's name, an employer or institutional or organizational affiliation name, the individual or organization category on mailing list, the city or zip code, or by any other personal identifiers.

SAFEGUARDS:

Access to electronic records is restricted to authorized personnel who have been issued non-transferrable access codes and passwords. Other records are maintained in locked file cabinets or in agency office space whose access is limited to those with authorization.

RETENTION AND DISPOSAL:

CPSC personnel revise the lists as necessary. The records can be destroyed when deemed no longer useful.

SYSTEM MANAGER(S) AND ADDRESS:

Secretary, Office of the Secretariat, Consumer Product Safety Commission, 4330 East West Highway, Bethesda, MD 20814.

NOTIFICATION PROCEDURE:

Individuals wishing to determine whether this system of records contains information about them may inquire in writing in accordance with the instructions appearing at 16 CFR part 1014. The request will be made to Freedom of Information/Privacy Act Officer, Office of the Secretariat, Consumer Product Safety Commission, 4330 East West Highway, Bethesda, MD 20814.

RECORD ACCESS PROCEDURES:

Same as notification.

CONTESTING RECORD PROCEDURES:

Same as notification.

RECORD SOURCE CATEGORIES:

These records contain information developed from publicly available information, information obtained from the relevant individual, information from business cards, sign-in sheets or rosters compiled at meetings, or from other sources. Information in this system of records may also be obtained from other CPSC records systems.

EXEMPTIONS CLAIMED FOR THE SYSTEM:

None.

[FR Doc. 2015-08999 Filed 4-17-15; 8:45 am]

BILLING CODE 6355-01-P